DEPARTMENT OF THE INTERIOR

Bureau of Land Management

[CA-360-01-1430-EU; CACA-37660]

Notice of Realty Action, Noncompetitive Sale of Public Lands in Trinity County, California for Community Purposes, Case File CACA-37660

AGENCY: Bureau of Land Management, Department of the Interior, Redding Field Office, Redding, CA.

ACTION: Notice of segregation and sale of public land.

SUMMARY: The following public lands have been found suitable for direct sale under section 203 of the Federal Land Policy and Management Act of 1976 (90 Stat. 2750, 43 U.S.C. 1713), at not less than the estimated fair market value of $135,000.00. The land will not be offered for sale until at least 60 days after the date of this notice.

Mount Diablo Meridian

T.33N., R.9W.,

Section 5, Lots 21, 55.

Section 6, Lots 6, 7, 11, 13, 18, 19, and Lots 23&24 of the SE.

Section 7, Lot 44.

Containing 131.61 Acres more or less.

The land described is hereby segregated from appropriation under the public land laws, including the mining laws, pending disposition of this action or 270 days from the date of publication of this notice, whichever occurs first.

This land is being offered by direct sale for community purposes to Trinity County and the Weaverville Fire District, consistent with 43 CFR 2711.3-3(a)(1). It has been determined that the public lands in Section 5, Lots 21, 55, Section 6 Lots 6, 7, 11, 13, 18, 19 contain no known mineral values; therefore, mineral interests may be conveyed simultaneously. Section 6, Lots 23&24 of the SE and Section 7 Lot 44, do contain a significant mineral interest value for cobble and small boulder size placer tailings, a royalty of ten percent of the gross Fair Market Value of the free on board cobbles, boulders, sand and gravel after processing and prior to incurring transportation costs shall be reserved to the United States. Acceptance of the direct sale offer will qualify the purchaser to make application for conveyance of those mineral interests not reserved to the United States.

The land are not needed for Federal purposes. Conveyance is consistent with current BLM land use planning and would be in the public interest.

The patent, when issued, will be subject to the following terms, conditions and reservations:

1. A right-of-way for ditches and canals constructed by the authority of the United States.

2. Third party rights

3. Protective covenant to protect an historic ditch and cultural site.

4. Section 6, Lots 23&24 of the SE and Section 7 Lot 44, do contain a significant mineral interest value for cobble and small boulder size placer tailings, a royalty of ten percent of the gross Fair Market Value of the free on board cobbles, boulders, sand and gravel after processing and prior to incurring transportation costs shall be reserved to the United States.

5. The patent will contain a hold harmless clause to protect the United States liability arising from local use of the land.

Detailed information concerning this action is available for review at the office of the Bureau of Land Management, Redding Field Office, 355 Hemsted Dr., Redding, California, 96002.

Upon publication of this notice in the Federal Register, the lands will be segregated from all other forms of appropriation under the public land laws, including the general mining laws. For a period of 45 days from the date of publication of this notice in the Federal Register, interested persons may submit written comments regarding the proposed sale to Charles M. Schultz, Field Office Manager, Redding Field Office, Bureau of Land Management, 355 Hemsted Dr., Redding, CA 96002. In the absence of timely objections, this proposal shall become the final determination of the department of the Interior.

Dated: April 26, 2001.
Michael Truden,
Acting Field Office Manager.

[FR Doc. 01-11876 Filed 5-10-01; 8:45 am]

BILLING CODE 4310-84-M